DEPARTMENT OF AGRICULTURE

Agricultural Marketing Service

[Doc. No. TM-05-03]

Request for an Extension of and Revision to a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget, for an extension of and revision to the currently approved information collection for the Farmers Market Questionnaire.

DATES: Comments received by August 2, 2005, will be considered.

FOR FURTHER INFORMATION CONTACT: Contact Ed Ragland, Marketing Services Branch, Transportation and Marketing, Agricultural Marketing Service, U.S. Department of Agriculture, 1400 Independence Avenue, SW., Room 2646 South Building, Washington, DC 20250-0269. Comments may also be sent by e-mail to USDAFMComments@usda.gov or by fax to 202-690-0031. State that your comments refer to Docket No. TM-05-03.

SUPPLEMENTARY INFORMATION: Title: Farmers Market Questionnaire.

OMB Number: 0581-0169.

Expiration Date of Approval: April 30, 2007.

Type of Request: Extension and revision of a currently approved information collection.

Abstract: Under the Agricultural Marketing Act of 1946, as amended (7 U.S.C. 1621 et seq.), the Agricultural Marketing Service (AMS) is responsible for conducting research to enhance market access for small and medium sized farmers. The role of the Marketing Services Branch (MSB) of AMS is to facilitate distribution of U.S. agricultural products. The branch identifies marketing opportunities, provides analysis to help take advantage of those opportunities and develops and evaluates solutions including improving farmers markets and other direct-to-consumer marketing activities. Various types of farmers markets serve different parts of the food marketing chain but all focus on the small-to medium-sized agricultural producers that have difficulty obtaining access to large scale commercial distribution channels. Information has been collected by the Marketing Services Branch periodically about the size and growth of farmers markets. On the revised questionnaire, information will be collected about the size and growth of markets, farmers served, products sold, sales, and management structure to better monitor how this marketing channel changes over time and the impact farmers markets have on the farming community nationwide.

Currently, OMB 0581-0169 is approved for 3888 burden hours. The rise in the number of farmers markets since the previous submission and the new revised questionnaire will result in an increase of 198 burden hours.

Estimate of Burden: Public reporting burden for this collection of information is estimated to average .32 hours per response.

Respondents: Farmers market managers.

Estimated Number of Respondents: 3700.

Estimated Number of Responses: 1850.

Estimated Number of Responses per Respondent: .5.

Estimated Total Annual Burden on Respondents: 586 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Ed Ragland, Marketing Services Branch, Transportation and Marketing Programs, Agricultural Marketing Services, U.S. Department of Agriculture, 1400 Independence Ave., SW., Room 2646 South Building, Washington, DC 20250-0269. All comments received will be available for public inspection during regular business hours at the same address.

All responses to this notice will be summarized and included in the request for OMB approval. All comments will become a matter of public record.

AMS is committed to implementation of the Government Paperwork Elimination Act, which provides for the use of information resources to improve the efficiency and effectiveness of government operations, including providing the public with the option of submitting information or transacting business electronically to the extent possible.

Dated: May 27, 2005.
Kenneth C. Clayton,
Acting Administrator, Agricultural Marketing Service.

[FR Doc. 05-11024 Filed 6-2-05; 8:45 am]

BILLING CODE 3410-02-P